SMALL BUSINESS ADMINISTRATION

[Declaration of Disaster #3428]

State of Texas

Amendment #9

In accordance with notices received from the Federal Emergency Management Agency, dated August 27 and August 30, 2002, the above numbered declaration is hereby amended to include Bee County in the State of Texas as a disaster area due to damages caused by severe storms and flooding beginning on June 29, 2002 and continuing through July 31, 2002. This declaration is also amended to extend the deadline for filing applications for physical damages as a result of this disaster to September 16, 2002.

All other counties contiguous to the above named primary counties have been previously declared.

All other information remains the same, i.e., the deadline for filing applications for economic injury is April 4, 2003.

(Catalog of Federal Domestic Assistance Program Nos. 59002 and 59008)
Dated: September 3, 2002.
Herbert L. Mitchell,
Associate Administrator for Disaster Assistance.

[FR Doc. 02-22931 Filed 9-9-02; 8:45 am]

BILLING CODE 8025-01-P